DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 7, 2019.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on October 2, 2019.
Donald P. Burger,
Chief, General Approvals and Permits Branch.

Application No. | Applicant | Regulation(s) affected | Nature of the special permits thereof
SPECIAL PERMITS DATA
20942-N | BETTER HORSE INC | 173.124(a) | To authorize the transportation in commerce of certain hazardous materials that have been reclassified from pyrotechnic articles to flammable solids. (modes 1, 2, 3)
20943-N | Zhejiang Meenyu Can Industry Co., Ltd | 173.304(a), 173.304(d) | To authorize the manufacture, mark, sale, and use of non-DOT specification receptacles. (modes 1, 2, 3)
20944-N | LINDE GAS NORTH AMERICA LLC | 173.304a(a) | To authorize the transportation in commerce of non-DOT specification cylinders. (modes 1, 3)
20945-N | AIR MEDICAL RESOURCE GROUP, INC | 172.101(j), 172.204(c)(3), 173.27(b)(2), 175.30(a)(1) | To authorize the transportation in commerce of limited quantities of hazardous materials that exceed quantity limitations by air. (mode 5)
20946-N | VOLKSWAGEN AG | 172.101(j) | To authorize the transportation in commerce of lithium ion batteries exceeding 35 kg net weight by cargo-only aircraft. (mode 4)
20947-N | Tmk Technics Corporation | 171.2(k), 172.200, 172.400, 172.700(a) | To authorize the transportation in commerce of certain DOT 3AL, cylinders that contain carbon dioxide, with alternative hazard communication. Additionally, cylinders with a gauge pressure less than 200 kPa (29.0 psig/43.8 psia) at 20 °C (68 °F) are authorized to be transported as a hazardous material under the conditions of this special permit. (modes 1, 2, 3)
20948-N | KOCSIS TECHNOLOGIES, INC | 173.302(a) | To authorize the transportation in commerce of a non-DOT specification cylinder for the transportation of the hazardous materials. (modes 1, 2, 3, 4)
20949-N | SIGMA-ALDRICH, INC | 178.601(k) | To authorize the testing of combination 4G fiberboard boxes for the transportation in commerce of hazardous materials in which the inner packagings have been used multiple times to complete the tests in §§ 178.603, 178.606, and 178.608. (modes 1, 2, 3, 4, 5)
20950-N | ZHEJIANG CHUMBOON IRON-PRINTING & TIN-MAKING CO., LTD | 173.304(d) | To authorize the manufacture, marking, sale and use of a non-refillable, non-DOT specification inside metal container. (modes 1, 2, 3, 4)
20951-N | KALITTA AIR, L.L.C | 172.101(j), 172.203(a), 172.301(c), 173.27(b)(2), 175.30(a)(1) | To authorize the transportation in commerce of explosives forbidden for air transportation by cargo-only aircraft. (mode 4)
20952-N | CAPELLA SPACE CORP | 173.185(a) | To authorize the transportation in commerce of low production lithium ion batteries contained in equipment by cargo-only aircraft. (mode 4)

[FR Doc. 2019-21889 Filed 10-7-19; 8:45 am]

BILLING CODE 4909-60-P